DEPARTMENT OF HEALTH AND HUMAN SERVICES

Office of Refugee Resettlement

[CFDA Number 93.676]

Announcing the Award of Two Urgent Single-Source Grants To Support Unaccompanied Alien Children Program Services

AGENCY: Office of Refugee Resettlement, ACF, HHS.

ACTION: The Office of Refugee Resettlement (ORR) announces the award of two urgent single-source grants from the Unaccompanied Alien Children's Program to Youth for Tomorrow in Bristow VA and Lincoln Hall in Lincolndale, NY.

SUMMARY: The Administration for Children and Families (ACF), Office of Refugee Resettlement (ORR) announces the award of two urgent single-source grants for a total of $4,767,696. Award funds will support grants to two organizations that are providing services under the Unaccompanied Alien Children's program.

Grantee organization | Location | Award amount
Youth for Tomorrow | Bristow, VA | $1,851,760
Lincoln Hall | Lincolndale, NY | 2,915,936

DATES: June 15, 2012—September 30, 2013.

FOR FURTHER INFORMATION CONTACT: Kenneth Tota, Deputy Director, Office of Refugee Resettlement, Administration for Children and Families, 370 L'Enfant Promenade SW., Washington, DC 20447, Telephone (202) 401-4858.

SUPPLEMENTARY INFORMATION: The grants will support the expansion of bed capacity to meet the number of unaccompanied alien children referrals from the Department of Homeland Security (DHS). The funding program is mandated by section 462 of the Homeland Security Act to ensure appropriate placement of all referrals from the DHS. The program is tied to DHS apprehension strategies and sporadic number of border crossers.

The program has specific requirements for the provision of services to unaccompanied alien children. Existing grantees are the only entities with the infrastructure, licensing, experience and appropriate level of trained staff to meet the required service requirements and the urgent need for expansion of services in response to unexpected arrivals of unaccompanied children. The program expansion supplement will support such services and alleviate the buildup of children waiting in border patrol stations for placement in shelter care.

Statutory Authority: Awards are authorized by Section 462 of the Homeland Security Act of 2002, Pub. L. 6 U.S.C. 279(b) (A)-(J) and section 235 (a)(5)(C) of the William Wilberforce Trafficking Victims Protection Reauthorization Act of 2008, Pub. L. 110-457, 8 U.S.C. 1232.

Eskinder Negash,
Director, Office of Refugee Resettlement.

[FR Doc. 2012-23246 Filed 9-19-12; 8:45 am]

BILLING CODE 4120-27-P